DEPARTMENT OF TRANSPORTATION

Federal Aviation Administration

Notice of Intent To Rule on Application To Impose and Use the Revenue From a Passenger Facility Charge (PFC) at Santa Barbara Municipal Airport, Goleta, CA

AGENCY: Federal Aviation Administration (FAA), DOT.

ACTION: Notice of intent to rule on application.

SUMMARY: The FAA proposes to rule and invites public comment on the application to impose and use the revenue from a PFC at Santa Barbara Municipal Airport under the provisions of the 49 United States Code (U.S.C.) section 40117 and Part 158 of the Federal Aviation Regulations (14 CFR Part 158).

DATES: Comments must be received on or before November 15, 2002.

ADDRESSES: Comments on this application may be mailed or delivered in triplicate to the FAA at the following address: Federal Aviation Administration, Airports Division, 15000 Aviation Blvd., Room 3012, Lawndale, CA 90261. In addition, one copy of any comments submitted to the FAA must be mailed or delivered to Ms. Karen Ramsdell, Airport Director, Santa Barbara Municipal Airport at the following address: 601 Firestone Road, Goleta, CA 93117. Air carriers and foreign air carriers may submit copies of written comments previously provided to the city of Santa Barbara under section 158.23 of part 158.

FOR FURTHER INFORMATION CONTACT: Kevin Flynn, Supervisor, Arizona Standards Section, FAA Airports Division, 15000 Aviation Blvd., Lawndale, CA 90261, Telephone: (310) 725-3632. The application may be reviewed in person at this same location.

SUPPLEMENTARY INFORMATION: The FAA proposes to rule and invites public comment on the application to impose and use the revenue from a PFC at Santa Barbara Municipal Airport under the provisions of the 49 U.S.C. section 40117 and Part 158 of the Federal Aviation Regulations (14 CFR Part 158).

On September 27, 2002, the FAA determined that the application to impose and use the revenue from a PFC submitted by the city of Santa Barbara was substantially complete within the requirements of section 158.25 of part 158. The FAA will approve or disapprove the application, in whole or in part, no later than December 28, 2002.

The following is a brief overview of the impose and use application number 02-03-C-00-SBA.

Proposed charge effective date: July 1, 2005.

Proposed charge expiration date: May 1, 2006.

Level of the proposed PFC: $3.00.

Total estimated PFC revenue approved in this application: $1,142,000.

Brief description of proposed use of PFC revenue projects: Master Plan Implementation Plan Project/Taxiway A and Safety Area; Master Plan Implementation Aviation Facilities Plan/Runway Safety Areas.

Brief description of proposed impose and use Projects: Taxiway B Runway Relocation; Master Plan Implementation Plan Project/Taxiway M Runway Incursion Projects; Master Plan Implementation Plan Project/New Taxiway Q. Class or classes of air carriers which the public agency has requested not be required to collect PFCs: Unscheduled Air Taxi Operators Operating under FAR part 135.

Any person may inspect the application in person at the FAA Regional Airports Division located at: Federal Aviation Administration, Airports Division, 15000 Aviation Blvd., Lawndale, CA 90261. In addition, any person may, upon request, inspect the application, notice and other documents germane to the application in person at the city of Santa Barbara.

Issued in Lawndale, California, on October 2, 2002.
Mia P. Ratcliff,
Acting Manager, Airports Division, Western-Pacific Region.

[FR Doc. 02-26286 Filed 10-15-02; 8:45 am]

BILLING CODE 4910-13-M